NATIONAL SCIENCE FOUNDATION

Advisory Committee for Education and Human Resources; Notice of Meeting

In accordance with the Federal Advisory Committee Act (Pub. L. 92-463, as amended), the National Science Foundation announces the following meeting:

NAME: Advisory Committee for Education and Human Resources (#1119).

DATE/TIME: September 29, 2015; 3:00-4:00 p.m. Eastern.

PLACE: NSF, 4201 Wilson Blvd., Arlington, VA 22230.

This will be a virtual meeting. All participants may join the conference call and webinar by clicking this link: https://nsf.webex.com/nsf/j.php?MTID=m864fc994f1187144465d519bf2281ab5.

Please follow the teleconference instructions to connect to the audio using a telephone. If you have trouble with the video portion of the meeting please contact dial 703-292-4357. Press 1 for videoconference support.

Those who wish to listen only please dial: 800-857-3133, Password: EHR AC.

If you have trouble with the audio portion of the meeting please contact customer service: 800-857-8777 (Audio only).

Meeting materials and minutes will also be available on the EHR Advisory Committee Web site at: http://www.nsf.gov/ehr/advisory.jsp.

TYPE OF MEETING: OPEN.

CONTACT PERSON: Michael Sullivan, National Science Foundation, 4201 Wilson Boulevard, Arlington, VA 22230; (703) 292-8600; ehr_ac@nsf.gov.

PURPOSE OF MEETING: To review, deliberate, and provide recommendations and the report of the Subcommittee on Advancing Historically Black Colleges and Universities of the Advisory Committee of the National Science Foundation Directorate for Education and Human Resources to the NSF (EHR AC).

AGENDA:

• Introduction by Joan Ferrini-Mundy, Assistant Director for Education and Human Resources and Francisco Rodriguez, Chair, Education and Human Resources Advisory Committee

• Review of Findings by Lee Todd, EHR AC Subcommittee Liaison and Tuajuanda Jordan, Subcommittee Co-Chair

• Deliberation by Advisory Committee members

• Comments from the public

• Determine disposition of Report

Dated: August 7, 2015.
Crystal Robinson,
Committee Management Officer.

[FR Doc. 2015-22887 Filed 9-10-15; 8:45 am]

BILLING CODE 7555-01-P